POSTAL REGULATORY COMMISSION

[Docket No. CP2013-43; Order No. 1804]

Negotiated Service Agreement

AGENCY: Postal Regulatory Commission.

ACTION: Notice.

SUMMARY: The Commission is noticing a recent Postal Service filing concerning the modification of Global Plus 1C negotiated service agreement. This notice informs the public of the filing, invites public comment, and takes other administrative steps.

DATES: Comments are due: August 16, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Contents of Filing

III. Commission Action

IV. Ordering Paragraphs

I. Introduction

On August 8, 2013, the Postal Service filed notice, pursuant to 39 CFR 3015.5, that it has entered into a modification of the Global Plus 1C agreement approved in Docket No. CP2013-43 (Modification One).¹ Modification One consists of rate changes to Annex 3 Prices for Commercial ePacket service and a new paragraph, in Article 6, addressing the Postal Service's obligation to provide its contracting partner, on a periodic basis, with a list of countries for which Commercial ePacket service is available. Notice at 1, Attachment 1 at 2. This Order provides the public with notice of Modification One, invites comments, and takes other administrative steps.

¹ Notice of the United States Postal Service of Filing Modification to Global Plus 1C Negotiated Service Agreement, August 8, 2013 (Notice). The Commission approved the underlying agreement in Order No. 1642, Order Approving Additional Global Plus 1C Negotiated Service Agreement, January 28, 2013.

II. Contents of Filing

In addition to the Notice, the Postal Service filed three attachments in support of Modification One:

• Attachment 1—a redacted copy of Modification One;

• Attachment 2—a certification of compliance with 39 U.S.C. 3633(a); and

• Attachment 3—a redacted copy of Governors' Decision No. 11-6, authorizing the new product.

The Postal Service also filed unredacted copies of the attachments and the supporting financial workpapers under seal.

III. Commission Action

The Commission reopens Docket No. CP2013-43 to consider issues raised by the Notice. The Commission invites comments from interested persons on whether Modification One is consistent with 39 U.S.C. 3632, 3633, 3642, 39 CFR 3015.5, and 39 CFR part 3020, subpart B. Comments are due no later than August 16, 2013. The public portions of the Postal Service's filing can be accessed via the Commission's Web site (http://www.prc.gov). Information on the Commission's treatment of non-public materials, including how to request access to them, appears in 39 CFR part 3007.

Allison J. Levy, previously designated to serve as Public Representative in this proceeding, will continue in that capacity.²

² See Order No. 1624, Notice and Order Concerning an Additional Global Plus 1C Contract, January 16, 2013.

IV. Ordering Paragraphs

It is ordered:

1. The Commission reopens Docket No. CP2013-43 for consideration of matters raised by the Postal Service's Notice.

2. Allison J. Levy, previously designated to serve as an officer of the Commission (Public Representative) to represent the interests of the general public in this proceeding, will continue in that capacity.

3. Comments from interested persons are due no later than August 16, 2013.

4. The Secretary shall arrange for publication of this order in the Federal Register.

By the Commission.
Shoshana M. Grove,
Secretary.

[FR Doc. 2013-19802 Filed 8-14-13; 8:45 am]

BILLING CODE 7710-FW-P